DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Cross-Site Evaluation of the Garrett Lee Smith Memorial Suicide Prevention and Early Intervention Programs (OMB No. 0930-0286)—Revision

The Substance Abuse and Mental Health Services Administration's (SAMHSA) Center for Mental Health Services (CMHS) will continue to conduct the cross-site evaluation of the Garrett Lee Smith Memorial Youth Suicide Prevention and Early Intervention State/Tribal Programs and the Garrett Lee Smith Memorial Youth Suicide Prevention Campus Programs. The data collected through the cross-site evaluation addresses four stages of program activity: (1) The context stage includes a review of program plans, such as grantee's target population, target region, service delivery mechanisms, service delivery setting, types of program activities to be funded and evaluation activities; (2) the product stage describes the prevention strategies that are developed and utilized by grantees; (3) the process stage assesses progress on key activities and milestones related to implementation of program plans; and (4) the impact stage assesses the impact of the program on early identification, referral for services and service follow up of youth at risk.

Additionally, to obtain a comprehensive understanding of the integration of community-based behavioral health services with services provided by college or university campuses, SAMHSA will conduct case studies of four exemplary Campus suicide prevention programs. Currently, case studies of two campus grantees are underway. The goal of the Campus Case Studies is to understand how a public health approach is successfully applied as a model for campus suicide prevention efforts, and will explore, in a systematic manner: The suicide prevention related infrastructures and supports (e.g., clinical and non-clinical) that exist on selected GLS-funded campuses; the various student-level factors that are related to suicide prevention efforts (e.g., protective factors, coping strategies, social norms, and facilitators and barriers to student access and receipt of behavioral healthcare); campus interdepartmental collaboration and the relationship between various efforts to promote student mental health and wellness; and the extent to which the campus infrastructures and supports promote and address these factors.

To date, 86 State/Tribal grants and 93 Campus grants have participated in the cross-site evaluation, since FY2007. Currently, 48 State/Tribal grants and 38 Campus grants are participating in the cross-site evaluation. Data will continue to be collected from suicide prevention program staff (e.g., project directors, evaluators), key program stakeholders (e.g., state/local officials, child-serving agency directors, gatekeepers, mental health providers, and campus administrators), training participants, college students, and campus faculty/staff through FY2012.

Since the State/Tribal grantees differ from the campus grantees in programmatic approaches, specific data collection activities also vary by type of program. The following describes the specific data collection activities and data collection instruments to be used across State/Tribal and Campus grantees for the cross-site evaluation and the specific data collection instruments to be used by selected Campus grantees for the Campus Case Studies. While most of the data collection instruments described below are revised versions of instruments that have previously received OMB approval (OMB No. 0930-0286 with Expiration Date: May 2010) and are currently in use, the Training Utilization and Preservation—Survey (TUP-S) for State/Tribal grantees and the Training Exit Survey for Campus grantees (TES-C) are proposed as new instruments. The addition of these two new data collection activities, the inclusion of the Campus Case studies, and an overall growth in number of grants for both the State/Tribal and Campus programs has increased the burden associated with the cross-site evaluation. A summary table of number of respondents and respondent burden has also been included.

Data Collection Activities for State/Tribal Grantees

For State/Tribal grantees, the Prevention Strategies Inventory State/Tribal (PSI ST), Training Exit Survey State/Tribal (TES ST), Referral Network Survey (RNS) and Training Utilization and Preservation—Interview (TUP-I) described below are revised versions of instruments that previously received OMB approval (OMB No. 0930-0286 with Expiration Date: May 2010) and are currently in use. The Training Utilization and Preservation—Survey (TUP-S) is proposed as a new data collection instrument.

• Prevention Strategies Inventory-State/Tribal (PSI ST)—Revised. The Prevention Strategies Inventory will collect information on the suicide prevention strategies that grantees have developed and utilized. Prevention strategies include outreach and awareness, gatekeeper training, assessment and referral training for mental health professionals and hotline staff, lifeskills development programs, screening programs, hotlines and helplines, means restriction, policies and protocols for intervention and postvention, coalitions and partnerships, and direct services and traditional healing practices. Baseline data will be collected from the State/Tribal grantees at the beginning of their grant cycle. Thereafter, they will complete the PSI ST on a quarterly basis over the duration of their grant period. Baseline data will be collected on information on the types of prevention strategies grantees have developed and utilized, and the follow-up data collection asks the grantees to update the information they have provided on a quarterly basis over the period of the grant. On average, 48 State/Tribal grantees will fill out the PSI ST per year. One respondent from each site will be responsible for completing the survey. The survey will take approximately 45 minutes; however, the number of products, services and activities implemented under each strategy will determine the number of items each respondent will complete. The PSI ST primarily has multiple-choice questions with several open-ended questions.

• Training Exit Survey State-Tribal Version (TES ST)—Revised. The TES ST will be administered to all participants in suicide prevention training activities immediately following their training experience in order to assess the content of the training, the participants' intended use of the skills and knowledge learned and satisfaction with the training experience. The survey will also contain modules with questions tailored to specific types of training. It is estimated that approximately 94,848 trainees per year will respond to the TES ST. The questions on the TES ST are multiple-choice, Likert-scale, and open-ended. The survey includes about 33 items and will take approximately 10 minutes to complete.

• Training Exit Survey Cover Page State/Tribal Version (TES CP)—Revision. State and Tribal grantees are required to report aggregate training participant information for all training conducted as part of their suicide prevention programs. These data are aggregated from existing data sources, some of which are attendance sheets, management information systems, etc. Grantees are responsible for aggregating these data and submitting to the cross-site evaluation team using the TES CP.

• Training Utilization and Preservation Survey (TUP-S)—New. The Training Utilization and Preservation Survey (TUP-S) is a quantitative, computer-assisted telephone interview that will be administered to a random sample of trainees two months following the training. The TUP-S will assess trainee knowledge retention and gatekeeper behavior, particularly behavior related to identifying youth at risk. The TUP-S will ask trainees to provide demographic information about individuals they have identified at risk, information about the subsequent referrals or supports provided by the trainee, and any available information about services accessed by the at-risk individual. An average of 2,000 participants per year will be sampled. The TUP-S includes 26 items and will take approximately 10 minutes to complete.

• Training Utilization and Preservation Key Informant Interview (TUP-1)—Revision. The TUP-I is a qualitative follow-up interview that is targeted towards locally developed and understudied standardized training curricula as well as towards particular understudied gatekeeper trainee populations. The TUP-I will be administered to respondents two months following the training experience to assess whether the suicide prevention knowledge, skills or techniques learned through training were utilized and had an impact on youth. On average, the TUP-I will be administered to 100 respondents per year. The interviews are semistructured and open-ended. The TUP includes 22 items and will take approximately 40 minutes to complete.

• Referral Network Survey (RNS)—Revision. The Referral Network Survey (RNS) will be administered to representatives of youth-serving organizations or agencies that form referral networks supporting youth identified at risk. The RNS examines how collaboration and integration are used for sharing and transferring knowledge, resources, and technology among State/Tribal Program agencies and organizational stakeholders, how these networks influence referral mechanisms and service availability, policies and protocols regarding follow-up for youths who have attempted suicide and who are at risk for suicide, and access to electronic databases. Most State/Tribal grantees will select a single referral network for this survey, the average size of the network is 11 agencies/organizations and there will be 2 respondents per agency. The RNS will be administered to referral networks on an annual basis over the period of the grant. On average, 1,056 respondents per year will complete the RNS. Questions on the RNS are multiple-choice, Likert-scale, and open-ended. The RNS includes 28 items and will take approximately 30 minutes to complete.

• Early Identification, Referral and Follow up Aggregate Screening Form—State/Tribal grantees are also required to report aggregate screening information for all youth screened as part of their suicide prevention programs. These data are aggregated from existing data sources. Grantees are responsible for aggregating these data and submitting to the cross-site evaluation team using the Early Identification, Referral and Follow up Aggregate Screening Form.

• Early Identification, Referral and Follow Up Analyses—State/Tribal grantees are required to share existing data with the cross-site evaluation team on the number of youth identified at risk as a result of early identification activities, referred for services, and who present for services.

Data Collection Activities for Campuses

For Campus grantees, the Prevention Strategies Inventory-Campus Baseline and Follow Up (PSI C), Suicide Prevention Exposure, Awareness and Knowledge Survey—Student Version (SPEAKS-S), Suicide Prevention Exposure, Awareness and Knowledge Survey—Faculty/StaffVersion (SPEAKS-FS) and Campus Infrastructure Interviews (CIFI) are revised versions of instruments that previously received OMB approval (OMB No. 0930-0286 with Expiration Date: May 2010) and are currently in use, and the Training Exit Survey—Campus (TES C) is proposed as a new data collection instrument.

• Prevention Strategies Inventory-Campus (PSI C)—Revision. The Prevention Strategies Inventory will collect information on the suicide prevention strategies that grantees have developed and utilized. Prevention strategies include outreach and awareness, gatekeeper training, assessment and referral training for mental health professionals and hotline staff, lifeskills development activities, screening programs, hotlines and helplines, means restriction, policies and protocols for intervention and postvention, and coalitions and partnerships. The Campus grantees will first complete collecting baseline data. Thereafter, they will collect follow-up data on a quarterly basis over the duration of their grant period. Baseline data will be collected on information on the types of prevention strategies grantees have developed and utilized, and the follow-up data collection asks the grantees to update the information they have provided on a quarterly basis over the period of the grant. On average, 38 Campus grantees will fill out the PSI C per year. One respondent from each site will be responsible for completing the survey. The survey will take approximately 45 minutes. However, the number of products, services and activities implemented under each strategy will determine the number of items to complete. The survey primarily has multiple choice questions with several open-ended questions.

• Training Exit Survey Campus Version (TES C)—New. The TES C will be administered to all participants in suicide prevention training activities immediately following their training experience in order to assess the content of the training, the participants' intended use of the skills and knowledge learned, and satisfaction with the training experience. The survey will also contain modules with questions tailored to specific types of training. It is estimated that approximately 23,712 trainees per year will respond to the Training Exit Survey. The questions on the TES C are multiple-choice, Likert-scale, and open-ended. The survey includes about 33 items and will take approximately 10 minutes to complete.

• Training Exit Survey Cover Page Campus Version (TES CP)—Revision. State and Tribal grantees are required to report aggregate training participant information for all training conducted as part of their suicide prevention programs. These data are aggregated from existing data sources, some of which are attendance sheets, management information systems, etc. Grantees are responsible for aggregating these data and submitting to the cross-site evaluation team using the TES CP.

• Suicide Prevention Exposure, Awareness and Knowledge Survey—Student Version (SPEAKS-S)—Revision. This survey will examine: The exposure of campus populations to suicide prevention initiatives; awareness of appropriate crisis interventions, supports, services, and resources for mental health seeking; knowledge of myths and facts related to suicide and suicide prevention; perceived and personal stigma related to depression and mental health seeking; and behaviors related to seeking help and referring for mental health services. This survey will be administered annually over the grant period. It is estimated that 7,600 students per year will respond to the SPEAKS S. The SPEAKS-S is Web-based and includes multiple-choice, Likert-scale and true/false questions. The SPEAKS-Student Version includes 85 items and will take approximately 25 minutes to complete.

• Suicide Prevention Exposure, Awareness and Knowledge Survey—(SPEAKS FS)—Revision. The SPEAKS-FS assesses the exposure, awareness and knowledge of suicide prevention activities among faculty/staff on campus as result of the suicide prevention program. Questions include whether faculty/staff have been exposed to suicide prevention materials, their agreement with myths and facts about suicide, and the availability of resources to provide assistance to those at risk for suicide. This survey will be administered annually over the grant period. It is estimated that 1,900 faculty/staff per year will respond to the SPEAKS FS. The SPEAKS-FS is Web-based and includes multiple-choice, Likert-scale and true/false questions. The survey includes 54 items and will take approximately 15 minutes to complete.

• Campus Infrastructure Interviews (CIFI)—Revision. CIFI is designed to gather information around campus infrastructure, program, policy, and planning related to suicide prevention; it involves key informant interviews conducted by the cross-site evaluation team via teleconference for each campus twice during the life of the grant. These semistructured interviews are conducted with up to five site representatives to gather information from multiple and varied perspectives on campus-based infrastructure development around suicide prevention activities. These representatives include; (1) Administrator, (2) Student Leader, (3) Counseling Center Staff, (4) Faculty/Staff-human services department, and (5) Faculty/Staff-non-human service department. Questions on the Campus Infrastructure Interview include whether respondents are aware of suicide prevention activities, what the campus culture is related to suicide prevention, and what specific efforts are in place to prevent suicide among the campus population. Questions will include close-ended background questions, with the remaining questions being open-ended and semi-structured. It is estimated that on average 64 respondents per year will respond to CIFI. The Campus Infrastructure Interviews include 29 items and will take approximately 60 minutes to complete.

Data Collection Activities for Campus Case Studies

For Campus Case Studies, the instruments described below are currently used by 2 Campus grantees. These instruments are proposed for 4 additional Campus grantees. The Campus Case Studies will take place over the period of the grant.

• Student Focus Group Moderator's Guide. This component will assess student risk and protective factors related to mental health, help-seeking behaviors, and knowledge of prevention activities on campus and their perceived effectiveness. This will help researchers more fully understand student-level factors in relation to population-level factors addressed by the SPEAKS-S. Questions address stressors that different groups of students face while in college, barriers to seeking help, attitudes and stigma related to seeking help, and the accessibility of the campus counseling center. Six focus groups will be conducted on each campus twice over the data collection period. The following groups of students will potentially be represented in the focus groups, as decided by the campus: (1) First-year students, (2) athletes, (3) international students, (4) Lesbian, Gay, Bisexual, and Transgender (LGBT) students, (5) Greek life students, (6) graduate students, and (7) residential advisors/peer educators. Recruitment will be conducted by campus project staff. Focus groups will include a maximum of 9 students. It is estimated that on average 432 students will participate in focus groups. Groups will last approximately 90 minutes.

• Faculty/Staff Focus Group Moderator's Guide. The faculty and staff focus groups will assess the campus' approach to prevention, attitudes and stigma around student mental health and wellness on campus, campus infrastructure supports for students who need mental health help, and the general campus climate around mental health and wellness. Faculty and staff will also describe their knowledge of prevention activities on campus and their perceived effectiveness of these efforts. Local campus staff will recruit appropriate respondents for the faculty and staff focus groups to include a maximum of 9 respondents per group. Two faculty focus groups and one staff focus group will be conducted on each campus twice over the period of data collection. It is estimated that 216 faculty/staff will participate in focus groups. The groups will last approximately 90 minutes.

• Case Study Key Informant Interviews (7 versions). The Case Study Key Informant Interviews (CSIs) include 7 qualitative interview versions: (1) Administrator, (2) Counseling Staff, (3) Coalition Member—Faculty, (4) Prevention Staff, (5) Case Finder, (6) Campus Police, and (7) Student Leader. Local project staff will be responsible for identifying appropriate respondents for each CSI version and scheduling the interview to occur during site visits by the case study team. Fourteen individuals from each of the campus sites will be selected as key informants to participate in the CSIs in each of the two stages of the GLS Campus Case Studies. Questions on the CSIs include whether respondents are aware of suicide prevention activities, what the campus culture is related to suicide prevention, and what specific efforts are in place to prevent suicide among the campus population. Items are formatted as open-ended and semi-structured questions. The CSIs include 16 to 21 items and will take approximately 60 minutes to complete. On the second site visit, the case study team will incorporate preliminary findings from the case studies in the interviews, which may be modified to some extent to collect more comprehensive information and gather feedback from local key informants surrounding the context of the preliminary findings. It is estimated that the CSI will be administered to 112 respondents. The CSIs for the second site visit will last 60 minutes.

In addition to the above described data collection activities, data from existing sources (i.e., management information systems (MIS), administrative records, case files, etc.) will continue to be analyzed across grantee sites to support the impact stage of the cross-site evaluation. For the cross-site evaluation of the Campus programs, existing program data related to the number of students who are at risk for suicide, the number who seek services, and the type of services received are analyzed to determine the impact of Campus program activities on the student and campus populations. Because this information is obtained through existing sources, data collection instruments were not developed as part of the cross-site evaluation and no identifiable respondents exist; therefore no respondent burden has been estimated.

Internet-based technology will continue to be used for collecting data via Web-based surveys, and for data entry and management. The average annual respondent burden is estimated below. The estimate reflects the average annual number of respondents, the average annual number of responses, the time it will take for each response, and the average annual burden. While the different cohorts of grantees finish their grants at different times, we have assumed that new cohorts will replace previous cohorts. Therefore, the number of grantees in each year is assumed to be constant.

Table—Estimates of Annualized Hour Burden
Measure name | Number of respondents | Number of responses/ respondent | Hours/ response | Response burden (in hours)
Prevention Strategies Inventory—State Tribal (PSI-ST) | 48 | 4 | 0.75 | 144
Training Exit Survey State/Tribal (TES-ST) | 94,848 | 1 | 0.17 | 16,125
Training Utilization and Penetration Survey (TUP-S) | 2,000 | 1 | 0.25 | 500
Training Utilization and Penetration Interview (TUP-I) | 100 | 1 | 0.67 | 67
Referral Network Survey (RNS) | 1,024 | 1 | 0.67 | 687
Early Identification, Referral and Follow Up Analysis (EIRF) | 48 | 4 | 1 | 192
Early Identification, Referral and Follow Up Aggregate Screening Form (EIRF-S) | 48 | 4 | 0.33 | 64
Training Exit Survey Cover Page State/Tribal (TES-CP-ST) | 48 | 4 | 0.33 | 64
Prevention Strategies Inventory—Campus (PSI-C) | 38 | 4 | 0.75 | 114
Training Exit Survey Campus (TES-C) | 23,712 | 1 | 0.17 | 4,032
Suicide Prevention Exposure, Awareness and Knowledge Survey—Student Version (SPEAKS-S) | 7,600 | 1 | 0.42 | 3,192
Suicide Prevention Exposure, Awareness and Knowledge Survey—Faculty/Staff (SPEAKS-FS) | 1,900 | 1 | 0.25 | 475
Campus Infrastructure Interview (CIFI) for Student | 38 | 1 | 0.75 | 29
Campus Infrastructure Interview (CIFI) for Faculty | 76 | 1 | 0.75 | 57
Campus Infrastructure Interview (CIFI) for Administrator | 38 | 1 | 0.75 | 29
Campus Infrastructure Interview (CIFI) for Counselor | 38 | 1 | 0.75 | 29
Training Exit Survey Cover Page Campus (TES-CP-C) | 38 | 4 | 0.33 | 51
MIS Data Abstraction | 38 | 4 | 0.33 | 51
Focus Group—Student Version | 216 | 1 | 1.5 | 324
Focus Group—Faculty Version | 72 | 1 | 1.5 | 108
Focus Group—Staff Version | 36 | 1 | 1.5 | 54
Interview—Student Leader Version | 8 | 1 | 1 | 8
Interview—Case Finder Version | 4 | 1 | 1 | 4
Interview—Faculty Version | 8 | 1 | 1 | 8
Interview—Campus Police Version | 8 | 1 | 1 | 8
Interview—Counseling Staff Version | 8 | 1 | 1 | 8
Interview—Prevention Staff Version | 12 | 1 | 1 | 12
Interview—Administrator Version | 8 | 1 | 1 | 8
Total | 132,060 |  |  | 26,444

Annualized Summary Table
Respondents | Number of respondents | Responses/ respondent | Total responses | Total annualized hour burden
STATE/TRIBAL CROSS-SITE EVALUATION INSTRUMENTS
Project Evaluators | 192 | 16 | 768 | 464
Providers | 97,972 | 4 | 97,972 | 17,379
CAMPUS CROSS-SITE EVALUATION INSTRUMENTS
Project Evaluators | 114 | 12 | 1,368 | 216
Students | 7,638 | 2 | 7,638 | 3,221
Campus Staff | 2,052 | 4 | 2,052 | 590
Providers | 23,712 | 1 | 23,712 | 4,032
CAMPUS CASE STUDY INSTRUMENTS
Students | 228 | 3 | 228 | 336
Campus Staff | 152 | 7 | 152 | 206
Total | 132,060 | 49 | 133,890 | 26,444

Written comments and recommendations concerning the proposed information collection should be sent by July 2, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: May 25, 2010.
Elaine Parry,
Director, Office of Program Services.

[FR Doc. 2010-13146 Filed 6-1-10; 8:45 am]

BILLING CODE 4162-20-P